DEPARTMENT OF DEFENSE

Defense Acquisition Regulations System

Information Collection Requirement; Defense Federal Acquisition Regulation Supplement; Government Property (OMB Control Number 0704-0246)

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through July 31, 2009. DoD proposes that OMB extend its approval for use for three additional years.

DATES: DoD will consider all comments received by July 6, 2009.

ADDRESSES: You may submit comments, identified by OMB Control Number 0704-0246, using any of the following methods:

○ Federal eRulemaking Portal: http://www.regulations.gov. Follow the instructions for submitting comments.

○ E-mail: dfars@osd.mil. Include OMB Control Number 0704-0246 in the subject line of the message.

○ Fax: 703-602-7887.

○ Mail: Defense Acquisition Regulations System, Attn: Mr. Mark Gomersall, OUSD(AT&L)DPAP(DARS), IMD 3D139, 3062 Defense Pentagon, Washington, DC 20301-3062.

○ Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Mark Gomersall, 703-602-0302. The information collection requirements addressed in this notice are available on the World Wide Web at: http://www.acq.osd.mil/dpap/dars/dfarspgi/current/index.html. Paper copies are available from Mr. Mark Gomersall, OUSD(AT&L)DPAP(DARS), IMD 3D139, 3062 Defense Pentagon, Washington, DC 20301-3062.

SUPPLEMENTARY INFORMATION:

Title, Associated Forms, and OMB Number: Defense Federal Acquisition Regulation Supplement (DFARS) Part 245, Government Property; DFARS 211.274, Item Identification and Valuation Requirements; DD Form 1149, Requisition and Invoice/Shipping Document; DD Form 1342, Property Record; DD Form 1637, Notice of Acceptance of Inventory Schedules; DD Form 1639, Scrap Warranty; and DD Form 1640, Request for Plant Clearance; OMB Control Number 0704-0246.

Needs and Uses: DoD needs this information to keep an account of Government property in the possession of contractors. Property administrators, contracting officers, and contractors use this information to maintain property records and material inspection, shipping, and receiving reports.

Affected Public: Businesses or other for-profit and not-for-profit institutions.

Annual Burden Hours: 49,580.

Number of Respondents: 14,282.

Responses per Respondent: 2.9.

Annual Responses: 41,917.

Average Burden per Response: 1.2 hours.

Frequency: On occasion.

Summary of Information Collection

This requirement provides for the collection of information related to providing Government property to contractors; contractor use and management of Government property; and reporting, redistribution, and disposal of contractor inventory.

a. DFARS 245.405(1) requires contractors to obtain contracting officer approval before using Government production and research property on work for foreign governments or international organizations.

b. DFARS 245.603-70(c) requires contractors that perform plant clearance duties to ensure that inventory schedules are satisfactory for storage or removal purposes. Contractors may use DD Form 1637 for this function.

c. DFARS 245.606-70 requires contractors to use DD Form 1342 to prepare a list of excess industrial plant equipment for submission to the Government property administrator.

d. DFARS 245.607-1(a)(i) permits contractors to request a pre-inventory scrap determination, made by the plant clearance officer after an on-site survey, if inventory is considered without value except for scrap.

e. DFARS 245.7101-2 permits contractors to use DD Form 1149 for transfer and donation of excess contractor inventory.

f. DFARS 245.7101-4 requires contractors to use DD Form 1640 to request plant clearance assistance or to transfer plant clearance.

g. DFARS 245.7303 and 245.7304 require contractors to use invitations for bid for the sale of surplus contractor inventory.

h. DFARS 245.7308(a) requires contractors to send certain information to the Department of Justice and the General Services Administration when the contractor sells or otherwise disposes of inventory with an estimated fair market value of $3 million or more, or disposes of any patents, processes, techniques or inventions, regardless of cost.

i. DFARS 245.7310-7 requires a purchaser of scrap to represent and warrant that the property will be used only as scrap. The purchaser also must sign DD Form 1639.

j. DFARS 211.274 requires contractors to electronically submit, to the Item Unique Identification (IUID) Registry, the IUID data applicable to Government property in the contractor's possession.

Michele P. Peterson,
Editor, Defense Acquisition Regulations System.

[FR Doc. E9-10192 Filed 5-1-09; 8:45 am]

BILLING CODE 5001-08-P